DEPARTMENT OF VETERANS AFFAIRS

Commission on Care

ACTION: Notice of meeting.

In accordance with the Federal Advisory Committee Act, 5 U.S.C., App. 2, the Commission on Care gives notice that it will meet on Tuesday, January 19, 2016 and Thursday, January 21, 2016 at the J.W. Marriott, Jr. ASAE Conference Center, 1575 I St. NW., Washington, DC 20005. The meeting will convene at 8:30 a.m. and end by 6:00 p.m. on Tuesday, January 19, 2016. The meeting will convene at 8:30 a.m. and end by 3:00 p.m. on Thursday, January 21, 2016. The meetings are open to the public.

The purpose of the Commission, as described in section 202 of the Veterans Access, Choice, and Accountability Act of 2014, is to examine the access of veterans to health care from the Department of Veterans Affairs and strategically examine how best to organize the Veterans Health Administration, locate health care resources, and deliver health care to veterans during the next 20 years.

No time will be allocated at these meetings for receiving oral presentations from the public. The public may submit written statements for the Commission's review to commissiononcare@va.gov . Any member of the public wanting to attend may also register their intention to attend by emailing the same address.

Dated: December 29, 2015.
John Goodrich,
Designated Federal Officer, Commission on Care.

[FR Doc. 2015-33051 Filed 12-31-15; 8:45 am]

BILLING CODE 8320-01-P